DEPARTMENT OF LABOR

Employment and Training Administration

[TA-W-73,382]

Holcim (US) Inc. Corporate Division Including On-Site Leased Workers From Manpower, Office Team and Advance Temporary Services; Dundee, MI; Amended Certification Regarding Eligibility to Apply for Worker Adjustment Assistance

In accordance with Section 223 of the Trade Act of 1974, as amended (“Act”), 19 U.S.C. 2273, the Department of Labor issued a Certification of Eligibility to Apply for Worker Adjustment Assistance on May 20, 2010, applicable to workers of Holcim (US) Inc., Corporate Division, including on-site leased workers from Manpower and Office Team, Dundee, Michigan. The notice was published in the Federal Register on June 7, 2010 (75 FR 32223).

At the request of the State Agency, the Department reviewed the certification for workers of the subject firm. The workers supply administrative services for the subject firm.

The company reports that workers leased from Advance Temporary Services were employed on-site at the Dundee, Michigan location of Holcim (US) Inc., Corporate Division. The Department has determined that these workers were sufficiently under the control of the subject firm to be considered leased workers.

Based on these findings, the Department is amending this certification to include workers leased from Advance Temporary Services working on-site at the Dundee, Michigan location of Holcim (US), Inc., Corporate Division.

The amended notice applicable to TA-W-73,382 is hereby issued as follows:

All workers of Holcim (US) Inc., Corporate Division, including on-site leased workers from Manpower, Office Team Advance Temporary Services, Dundee, Michigan, who became totally or partially separated from employment on or after January 2, 2009, through May 20, 2012, and all workers in the group threatened with total or partial separation from employment on the date of certification through two years from the date of certification, are eligible to apply for adjustment assistance under Chapter 2 of Title II of the Trade Act of 1974, as amended.

Signed at Washington, DC, this 16th day of July 2010.
Michael W. Jaffe,
Certifying Officer, Division of Trade Adjustment Assistance.

[FR Doc. 2010-18829 Filed 7-30-10; 8:45 am]

BILLING CODE 4510-FN-P